DEPARTMENT OF COMMERCE

International Trade Administration

A-427-820

Stainless Steel Bar from France: Final Results of Antidumping Duty Administrative Review

AGENCY: Import Administration, International Trade Administration, Department of Commerce.

SUMMARY: On April 6, 2005, the Department of Commerce published the preliminary results of the second administrative review of the antidumping duty order on stainless steel bar from France. The review covers UGITECH S.A. (UGITECH), a manufacturer/exporter of the subject merchandise. The period of review is March 1, 2003, through February 29, 2004.

The Department preliminarily determined that UGITECH is the successor-in-interest to Ugine-Savoie Imphy S.A. for purposes of determining antidumping duty liability. The Department is now affirming its preliminary results.

Based on our analysis of the comments received, we have made changes in the margin calculations. Therefore, the final results differ from the preliminary results. The final weighted-average dumping margin for the reviewed firm is listed below in the section entitled “Final Results of Review.”

EFFECTIVE DATE: August 10, 2005.

FOR FURTHER INFORMATION CONTACT: Terre R. Keaton or David J. Goldberger, AD/CVD Operations, Office 2, Import Administration-Room B099, International Trade Administration, U.S. Department of Commerce, 14th Street and Constitution Avenue, NW, Washington, DC 20230; telephone: (202) 482-1280 or (202) 482-4136, respectively.

SUPPLEMENTARY INFORMATION:

Background

On April 6, 2005, the Department of Commerce (the Department) published the preliminary results of the second administrative review of the antidumping duty order on stainless steel bar from France (70 FR 17411) (Preliminary Results). We invited parties to comment on the Preliminary Results. On May 20 and 27, 2005, the parties submitted case and rebuttal briefs, respectively. We have conducted this administrative review in accordance with section 751(a) of the Tariff Act of 1930, as amended (“the Act”).

Scope of the Order

For purposes of this order, the term “stainless steel bar” includes articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. Stainless steel bar includes cold-finished stainless steel bars that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), products that have been cut from stainless steel sheet, strip or plate, wire (i.e., cold-formed products in coils, of any uniform solid cross section along their whole length, which do not conform to the definition of flat-rolled products), and angles, shapes and sections.

The stainless steel bar subject to this order is currently classifiable under subheadings 7222.11.00.05, 7222.11.00.50, 7222.19.00.05, 7222.19.00.50, 7222.20.00.05, 7222.20.00.45, 7222.20.00.75, and 7222.30.00.00 of the Harmonized Tariff Schedule of the United States (HTSUS). Although the HTSUS subheadings are provided for convenience and customs purposes, the written description of the scope of this order is dispositive.

Successor-in-Interest Analysis

In the Preliminary Results, we determined that UGITECH is the successor-in-interest to Ugine-Savoie Imphy S.A. Neither party objected to our preliminary finding. Therefore, for the final results, we continue to find that UGITECH is the successor-in-interest to Ugine-Savoie Imphy S.A. for antidumping duty cash deposit purposes. We will notify U.S. Customs and Border Protection (CBP) accordingly.

Analysis of Comments Received

All issues raised in the case and rebuttal briefs by parties to this antidumping duty administrative review are addressed in the August 4, 2005, Issues and Decision Memorandum for the Final Results of Stainless Steel Bar from France (Decision Memo), which is hereby adopted by this notice. A list of the issues which parties have raised and to which we have responded, all of which are in the Decision Memo, is attached to this notice as an Appendix. Parties can find a complete discussion of all issues raised in this review and the corresponding recommendations in this public memorandum which is on file in the Central Records Unit, room B-099 of the main Department building. In addition, a complete version of the Decision Memo can be accessed directly on the Web at http://ia.ita.doc.gov/frn. The paper copy and electronic version of the Decision Memo are identical in content.

Changes from the Preliminary Results

Based on our analysis of the comments received, we have made certain changes to the margin calculations which are detailed in the Decision Memo.

Final Results of Review

We determine that the following weighted-average margin percentage exists:

Manufacturer/exporter | Margin (percent)
UGITECH S. A. | 14.98

Assessment

The Department shall determine, and CBP shall assess, antidumping duties on all appropriate entries, in accordance with 19 CFR 351.212. The Department will issue appropriate appraisement instructions for the company subject to this review directly to CBP within 15 days of publication of these final results of review. In accordance with 19 CFR 351.106(c)(1), we will instruct CBP to assess antidumping duties on all appropriate entries covered by this review if any importer-specific assessment rate calculated in the final results of this review is above de minimis (i.e., is not less than 0.50 percent). We calculated importer-specific assessment rates for the subject merchandise by aggregating the dumping margins calculated for all of the U.S. sales examined and dividing this amount by the total entered value of the sales examined.

Cash Deposit Requirements

The following cash deposit requirements will be effective for all shipments of the subject merchandise entered, or withdrawn from warehouse, for consumption on or after the publication date of the final results of this administrative review, as provided by section 751(a)(1) of the Act: (1) the cash deposit rate for UGITECH will be 14.98 percent; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) the cash deposit rate for all other manufacturers or exporters will continue to be 3.90 percent. This rate is the “All Others” rate from the LTFV investigation. These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation. We are issuing and publishing this determination and notice in accordance with sections 751(a)(1) and 777(i) of the Act.

Dated: August 4, 2005.
Joseph A. Spetrini,
Acting Assistant Secretary for Import Administration.

Appendix List of Issues

Comment 1: The Treatment of the Impairment of Assets Recognized in UGITECH's 2003 Financial Statements

Comment 2: The Treatment of Certain Research and Development Expenses in the Total Cost of Production Calculation

Comment 3: The Treatment of Non-Realized Restructuring Expenses in the General Administrative Expense Calculation

Comment 4: Level of Trade in the Home Market

Comment 5: Whether to Combine Certain Grade Codes for Product Matching

Comment 6: The Treatment of Early Payment Discount for Unpaid Home Market Sales

Comment 7: The Date of Shipment for Certain U.S. Consignment Sales

Comment 8: The Date of Payment for Unpaid U.S. Sales

Comment 9: Alleged Additional Direct Expenses on Certain U.S. Sales

[FR Doc. E5-4330 Filed 8-9-05; 8:45 am]

BILLING CODE 3510-DS-S